NATIONAL SCIENCE FOUNDATION

Notice of Permit Modification Received Under the Antarctic Conservation Act of 1978

AGENCY: National Science Foundation.

ACTION: Notice of permit modification request.

SUMMARY: The National Science Foundation (NSF) is required to publish a notice of requests to modify permits issued to conduct activities regulated under the Antarctic Conservation Act of 1978. This is the required notice of a requested permit modification.

DATES: Interested parties are invited to submit written data, comments, or views with respect to this permit application by February 6, 2017. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (ACA 2016-024) to Ari Friedlaender on February 8, 2016. The issued permit allows the permit holder to conduct waste management activities associated with the tagging and biopsy sampling of baleen whales in the Antarctic Peninsula region. The permit covers any accidental releases that may occur if the biopsy darts and/or tags are lost during the conduct of the research.

Now the permit holder proposes a modification to his permit to include waste management activities associated with the operation of unmanned aircraft systems (UAS) used to collect photographs of individual whales for health assessment purposes. The permit holder is requesting this modification in the unlikely event that the UAS is lost during the conduct of science missions. The UAS will be operated by experienced pilots according to protocols designed to ensure safe operations and to minimize the risk of loss of the UAS. The UAS are powered by lithium polymer batteries and do not require any fuels.

Location: Antarctic Peninsula region.

Dates: February 15, 2017-April 30, 2020.

Nadene G. Kennedy,
Polar Coordination Specialist, Office of Polar Programs.

[FR Doc. 2017-00023 Filed 1-5-17; 8:45 am]

BILLING CODE 7555-01-P